DEPARTMENT OF TRANSPORTATION

National Highway Traffic Safety Administration

49 CFR Part 571

[Docket No. NHTSA-03-15712]

RIN 2127-AH08

Federal Motor Vehicle Safety Standards; Glazing Materials; Low Speed Vehicles

AGENCY: National Highway Traffic Safety Administration (NHTSA), Department of Transportation.

ACTION: Final rule, delay of effective date and correcting amendment.

SUMMARY: This document delays the effective date of, and makes a correcting amendment to, the final rule published on July 25, 2003 (68 FR 43964) that updates the Federal motor vehicle safety standard on glazing materials.

DATES: The effective date of the final rule amending 49 CFR part 571, published at 68 FR 43964, July 25, 2003, as corrected by the amendment in this document, is delayed from September 23, 2003, to January 22, 2004. Voluntary compliance is permitted before that date.

FOR FURTHER INFORMATION CONTACT: For technical and policy issues: Mr. John Lee, Office of Crashworthiness Standards, NVS-112, National Highway Traffic Safety Administration, 400 Seventh Street, SW., Washington, DC 20590. Telephone: (202) 366-4924. Fax: (202) 366-4329.

For legal issues: Nancy Bell, Attorney Advisor, Office of the Chief Counsel, NCC-112, National Highway Traffic Safety Administration, 400 Seventh Street, SW., Washington, DC 20590. Telephone: (202) 366-2992. Fax: (202) 366-3820.

SUPPLEMENTARY INFORMATION:

Background

The standards that are the subject of these corrections are Federal Motor Vehicle Safety Standard (FMVSS) No. 205, “Glazing materials,” and FMVSS No. 500, “Low-speed vehicles.” A final rule amending these standards was published on July 25, 2003 (68 FR 43964). The rule updates FMVSS No. 205 so that it incorporates by reference the 1996 version of the industry standard, American National Standard for Safety Glazing Materials for Glazing Motor Vehicles and Motor Vehicle Equipment Operating on Land Highways (“ANSI/SAE Z26.1-1996”), on motor vehicle glazing. Currently, the Federal standard references the 1977 version of the industry standard and the 1980 supplement to that standard. The July 2003 final rule also simplifies understanding of the Federal glazing performance requirements. The amendments of the past 20 years to the standard resulted in a patchwork of requirements in the Federal standard that needed to be read alongside the industry standard in order to gain a comprehensive understanding of the overall requirements of the Federal standard.

Need for Correction

As published, the July 2003 final rule contained errors that need correction. First, this document corrects the effective date of the final rule to provide the 180-day lead-time discussed in the preamble. The Dates section of the document incorrectly cited that the rule would become effective on September 23, 2003. This has been corrected in the Dates section of this document to state that the effective date for the July 2003 final rule is January 22, 2004, which is 180 days after the publication date of the July 2003 final rule.

Second, this document corrects an inadvertent omission of a location restriction for Item 4A glazing. In the current FMVSS No. 205 (S5.1.2.11), NHTSA only permits Item 4A glazing—Rigid Plastic for Use in Side Windows Rearward of the “C” pillar—to be used in side windows rearward of the “C” pillar. As stated in the final rule permitting the installation of Item 4A glazing published on August 12, 1996 (61 FR 41739) and subsequent letters of interpretation, NHTSA does not permit Item 4A glazing near rear-facing seats or side-facing seats in any motor vehicle because of the concern that occupants riding in those seating locations may be able to contact their heads against Item 4A glazing in a crash. The breaking of rigid plastic windows in a crash could leave sharp, pointed shards in the window frame which could easily be contacted by an occupant's head. There is also concern about occupant injury resulting from large shards of rigid plastic glazing being propelled inward by vehicle impacts with trees, poles, or other vehicles.¹

¹ While not discussed in the 1996 final rule, the reduction in visibility through rear windows using plastic glazing due to abrasion and weathering creates significant safety concerns because a driver may have insufficient visibility to avoid a crash in the first place. This issue was not discussed in the 1996 final rule because all parties to that rulemaking agreed that inferior visibility in the rear window created an unsafe driving condition.

In the July 2003 final rule, NHTSA incorporated by reference the ANSI/SAE Z26.1-1996 provision for Item 4A glazing that closely mirrors the requirements contained in the current FMVSS No. 205. It has come to our attention, however, that the ANSI/SAE Z26.1-1996 provision for Item 4A glazing does not contain the restriction that this Item of glazing only be permitted for use in side windows rearward of the “C” pillar. It would also permit Item 4A glazing in the rear windows of vehicles that previously were not allowed to have Item 4A glazing in any windows other than some rear side windows. The omission of this restriction was inadvertent and, as such, was not discussed or considered in either the Notice of Proposed Rulemaking published on August 4, 1999 proposing to amend FMVSS No. 205 by incorporating by reference ANSI/SAE Z26.1-1996 or in the July 2003 final rule. As such, the agency is taking this opportunity to correct the regulatory text of FMVSS No. 205 to make clear that Item 4A glazing is only permitted for use in side windows rearward of the “C” pillar.

Correction of Publication

List of Subjects in 49 CFR Part 571

Imports, Motor vehicle safety, Motor vehicles.

In consideration of the foregoing, 49 CFR Part 571 as amended at 68 FR 43964 (July 25, 2003) is further amended as follows:

PART 571—FEDERAL MOTOR VEHICLE SAFETY STANDARDS

1. The authority citation for Part 571 of Title 49 continues to read as follows:

Authority: 49 U.S.C. 322, 30111, 30115, 30117, and 30166; delegation of authority at 49 CFR 1.50.

2. Section 571.205 is amended by adding S5.5 to read as follows:

* * * * *

§ 571.205 Standard No. 205; Glazing materials

* * * * *

S5.5 Item 4A Glazing. Item 4A glazing, as specified in ANSI/SAE Z26.1-1996, may only be used in side windows rearward of the “C” pillar.

* * * * *

Issued: September 23, 2003.
Roger A. Saul,
Director, Office of Crashworthiness Standards.

[FR Doc. 03-24346 Filed 9-23-03; 3:34 pm]

BILLING CODE 4910-59-P